DEPARTMENT OF TRANSPORTATION

Federal Aviation Administration

14 CFR Part 71

[Docket No. FAA-2008-1171; Airspace Docket No. 08-AEA-25]

RIN 2120-AA66

Modification of Jet Route J-522 in the Vicinity of Rochester, NY

AGENCY: Federal Aviation Administration (FAA), DOT.

ACTION: Final rule.

SUMMARY: This action modifies the published description of jet route J-522 to reflect the relocation of one of the navigation aids used to form a portion of the route.

DATES: Effective Dates: 0901 UTC, January 15, 2009. The Director of the Federal Register approves this incorporation by reference action under 1 CFR part 51, subject to the annual revision of FAA Order 7400.9 and publication of conforming amendments.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

Background

The Rochester VORTAC, located at the Greater Rochester International Airport, Rochester, NY, is one of the navigation aids used to form a point along jet route J-522. Due to airport construction, the Rochester VORTAC is being relocated to another point on the airport. In addition, the equipment is being upgraded to a doppler very high frequency omnidirectional range/distance measuring equipment (VOR/DME) facility. This will improve the coverage and reliability of the facility. Due to the relocation, the radial of the new Rochester VOR/DME, as used in the route description, has changed by one degree from the currently published radial.

The Rule

This action amends Title 14 Code of Federal Regulations (14 CFR) part 71 to make a minor revision to the description of Jet Route J-522 to change the radial based on the Rochester VOR/DME facility. The commissioning of the Rochester VOR/DME at a new location on the airport results in a one degree change in the affected radial.

Because this action is a minor change in the alignment of the routes and is needed for navigation accuracy and safety reasons, I find that notice and public procedure under 5 U.S.C. 553(b) are impractical and contrary to the public interest.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

Jet Routes are published in paragraph 2004 of FAA Order 7400.9S, effective October 31, 2008, which is incorporated by reference in 14 CFR 71.1. The jet route listed in this document will be published subsequently in the Order.

This rulemaking is promulgated under the authority described in Subtitle VII, Part A, Subpart I, Section 40103. Under that section, the FAA is charged with prescribing regulations to assign the use of the airspace necessary to ensure the safety of aircraft and the efficient use of airspace. This regulation is within the scope of that authority as it amends a portion of the en route structure.

Environmental Review

The FAA has determined that this action qualifies for categorical exclusion under the National Environmental Policy Act in accordance with FAA Order 1050.1E, “Environmental Impacts: Policies and Procedures,” paragraph 311a, 311b, and 311k. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of FAA Order 7400.9S, Airspace Designations and Reporting Points, dated October 3, 2008 and effective October 31, 2008, is amended as follows:

Paragraph 2004 Jet Routes.

* * * * *

J-522 [Modified]

From Brainerd, MN; Green Bay, WI; Traverse City, MI; Au Sable, MI; Toronto, ON, Canada; INT Toronto 096° and Rochester, NY, 301° radials; Rochester, NY; Hancock, NY; to Kingston, NY. The airspace within Canada is excluded.

* * * * *

Issued in Washington, DC, on November 7, 2008.
Edith V. Parish,
Manager, Airspace and Rules Group.

[FR Doc. E8-27154 Filed 11-17-08; 8:45 am]

BILLING CODE 4910-13-P